DEPARTMENT OF HEALTH AND HUMAN SERVICES

National Institutes of Health

National Library of Medicine; Notice of Closed Meeting

Pursuant to section 10(a) of the Federal Advisory Committee Act, as amended (5 U.S.C. Appendix 2), notice is hereby given of a meeting of the PubMed Central National Advisory Committee.

The meeting will be closed to the public, with attendance limited to space available. Individuals who plan to attend and need special assistance, such a a sign language interpretation or other reasonable accommodations, should notify the Contact Person listed below in advance of the meeting.

Name of Committee: PubMed Central National Advisory Committee.

Date: March 27, 2000.

Time: 8:30 a.m. to 1: p.m.

Agenda: Review and analysis of system including program objectives and directives.

Place: National Library of Medicine, Board Room, Bldg 38, 2E-09, 8600 Rockville Pike, Bethesda, MD 20894.

Contact Person: David J. Lipman, Director, Natl Ctr for Biotechnology Information, National Library of Medicine, Department of Health and Human Services, Bethesda, MD 20894.

This notice is being published less than 15 days prior to the meeting due to the timing limitations imposed by the review and funding cycle.

(Catalogue of Federal Domestic Assistance Program Nos. 93.879, Medical Library Assistance, National Institutes of Health, HHS)

Dated: March 8, 2000.
Anna Snouffer,
Acting Director, Office of Federal Advisory Committee Policy.

[FR Doc. 00-6481 Filed 3-15-00; 8:45 am]

BILLING CODE 4140-01-M